DEPARTMENT OF JUSTICE

[OMB Number 1105-0103]

Agency Information Collection Activities; Proposed eCollection eComments Requested; Extension of a Previously Approved Collection; FBI Whistleblower Request for Corrective Action Form

AGENCY: Office of Attorney Recruitment and Management, Department of Justice.

ACTION: 60-Day notice.

SUMMARY: The Department of Justice (DOJ), Justice Management Division, Office of Attorney Recruitment and Management, will be submitting the following information collection request to the Office of Management and Budget (OMB) for review and approval in accordance with the Paperwork Reduction Act of 1995.

DATES: Comments are encouraged and will be accepted for 60 days until July 24, 2023.

FOR FURTHER INFORMATION CONTACT: If you have additional comments especially on the estimated public burden or associated response time, suggestions, or need a copy of the proposed information collection instrument with instructions or additional information, please contact Rena J. Cervoni, Office of Attorney Recruitment and Management, 450 5th St. NW, Suite 10200, 202-514-6429, Rena.J.Cervoni@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Extension of the previously approved Request for Corrective Action Form collection.

The Request for Corrective Action Form is voluntarily submitted by individuals who are current or former employees of, or applicants for employment with, the FBI who allege reprisal for their whistleblowing activities.

Overview of This Information Collection

1. Type of Information Collection: Extension of a previously approved collection.

2. The Title of the Form/Collection: Request for Corrective Action Form: REQUEST FOR CORRECTIVE ACTION FORM (justice.gov).

3. The agency form number, if any, and the applicable component of the Department sponsoring the collection: No form number/Office of Attorney Recruitment and Management Justice Management Division, U.S. Department of Justice.

4. Affected public who will be asked or required to respond, as well as the obligation to respond: Affected Public: Individuals or households. The obligation to respond is voluntary.

5. An estimate of the total number of respondents and the amount of time estimated for an average respondent to respond: An average of 15 respondents per year, and an average of three hours to complete to respond.

6. An estimate of the total annual burden (in hours) associated with the collection: The total annual burden hours for this collection is approximately 45 hours.

7. An estimate of the total annual cost burden associated with the collection, if applicable: Not applicable/$0.

Activity | Number of respondents | Frequency | Total annual responses | Time per response (hours) | Total annual burden (hours)
Request for Corrective Action Form | 15 | 1/annually | 15 | 3 | 45
Unduplicated Totals | 15 |  | 15 |  | 45

If additional information is required contact: John R. Carlson, Department Clearance Officer, United States Department of Justice, Justice Management Division, Policy and Planning Staff, Two Constitution Square, 145 N Street NE, 4W-218, Washington, DC.

Dated: May 18, 2023.
John Carlson,
Department Clearance Officer for PRA, U.S. Department of Justice.

[FR Doc. 2023-11090 Filed 5-23-23; 8:45 am]

BILLING CODE 4410-PB-P